DEPARTMENT OF HEALTH AND HUMAN SERVICES

Administration for Children and Families

[OMB No. 0970-0356]

Proposed Information Collection Activity; Comment Request

Title: Formative Data Collections for ACF Research and Program Support

Description: The Office of Planning, Research, and Evaluation (OPRE), in the Administration for Children and Families (ACF) at the U.S. Department of Health and Human Services (HHS) intends to request approval from the Office of Management and Budget (OMB) to renew a generic clearance to conduct a variety of formative data collections with more than nine respondents. The data collections will inform future research and program support but will not be highly systematic nor intended to be statistically representative.

ACF programs promote the economic and social well-being of families, children, individuals and communities. OPRE studies ACF programs, and the populations they serve, through rigorous research and evaluation projects. These include evaluations of existing programs, evaluations of innovative approaches to helping low income children and families, research syntheses and descriptive and exploratory studies. OPRE's research serves to provide further understanding of current programs and service populations, explore options for program improvement, and assess alternative policy and program designs. OPRE anticipates undertaking a variety of new research projects related to welfare, employment and self-sufficiency, Head Start, child care, healthy marriage and responsible fatherhood, family and youth services, home visiting, and child welfare. Many ACF program offices find a need to learn more about funded program services to inform internal decision making and to provide adequate support. Some program offices conduct their own research and evaluation projects.

Under this generic clearance, ACF would engage in a variety of formative data collections with researchers, practitioners, TA providers, service providers and program participants throughout the field to fulfill the following goals: (1) Inform the development of ACF research, (2) maintain a research agenda that is rigorous and relevant, (3) ensure that research products are as current and responsive to audience needs as possible and (4) inform the provision of technical assistance. ACF envisions using a variety of techniques including semi-structured discussions, focus groups, and telephone or in-person interviews, in order to reach these goals.

Following standard OMB requirements, OPRE will submit a change request for each individual data collection activity under this generic clearance. Each request will include the individual instrument(s), a justification specific to the individual information collection, and any supplementary documents. OMB should review requests within 10 days of submission.

Under this generic IC information will not be collected with the primary purpose of publication, but findings are meant to inform ACF activities and may be incorporated into documents or presentations that are made public. The following are some examples of ways in which we may disseminate information resulting from these data collections: Research design documents or reports; research or technical assistance plans; background materials for technical workgroups; concept maps, process maps, or conceptual frameworks; contextualization of research findings from a follow-up data collection that has full PRA approval; informational reports to stakeholders such as funders, grantees, local implementing agencies, and/or TA providers. In presenting findings, we will describe the study methods and limitations with regard to generalizability and as a basis for policy recommendations.

Respondents: Key stakeholder groups involved in ACF projects and programs, state or local government officials, service providers, participants in ACF programs or similar comparison groups; experts in fields pertaining to ACF research and programs, or others involved in conducting ACF research or evaluation projects.

Annual Burden Estimates
Instrument type | Estimated total number of respondents | Estimated number of responses per respondent | Average burden hours per response | Estimated total burden hours
Semi-Structured Discussions, Focus Groups | 1,750 | 1 | 2 | 3,500
Interviews | 750 | 1 | 1 | 750
Questionnaires/Surveys | 500 | 1 | .5 | 250

Total Estimated Burden Hours: 4,500.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-21885 Filed 10-10-17; 8:45 am]

BILLING CODE 4184-79-P